NUCLEAR REGULATORY COMMISSION

[NUREG-1718]

Standard Review Plan for the Review of an Application for a Mixed Oxide (MOX) Fuel Fabrication Facility; Notice of Availability

AGENCY: Nuclear Regulatory Commission.

ACTION: Notice of Availability.

SUMMARY: The Nuclear Regulatory Commission (NRC) issued a draft NUREG-1718 entitled “Standard Review Plan for the Review of an Application for a Mixed Oxide (MOX) Fuel Fabrication Facility” for review and comment.

DATES: Submit comments by March 13, 2000. Comments received after this date will be considered if it is practical to do so, but the Commission is able to ensure consideration only for comments received on or before this date.

ADDRESSES: Mail written comments to: Chief, Rules and Directives Branch, U.S. Nuclear Regulatory Commission, Washington, DC 20555-0001. Hand deliver comments to 11545 Rockville Pike, Rockville, Maryland 20852, between 7:30 am and 4:15 pm during Federal workdays.

Draft NUREG-1718 is available for inspection and copying for a fee at the Commission's Public Document Room, the Gelman Building, 2120 L Street, N.W., Washington, DC, and electronically from the ADAMS Public Library component on the NRC Web site, http://www.nrc.gov (the Electronic Reading Room).

A free single copy of draft NUREG-1718, to the extent of supply, may be requested by writing to the U.S. Nuclear Regulatory Commission, Distribution Services, Washington, DC 20555-0001. Draft NUREG-1718 is available on the World Wide Web at http://www.nrc.gov/NRC/NUREG/indexnum.html. Comments may be submitted by selecting the “comments” link on the main page for the draft NUREG.

FOR FURTHER INFORMATION CONTACT: For further information regarding draft NUREG-1718 contact Andrew Persinko, Office of Nuclear Material Safety and Safeguards, U.S. Nuclear Regulatory Commission, Washington, DC 20555, telephone (301) 415-6522.

SUPPLEMENTARY INFORMATION: The NRC anticipates reviewing applications for licensing a mixed oxide (MOX) fuel fabrication facility under 10 CFR Part 70. The MOX fuel fabrication facility is a plutonium processing and fuel fabrication plant. Specifically, 10 CFR Part 70 requires that applicants for plutonium facilities obtain the NRC's approval prior to initiating construction and the NRC must later confirm that the facility is constructed in accordance with the license application. As a result, the NRC expects to receive two separate submittals: (1) an application for construction approval and (2) a license application.

The NRC prepared draft NUREG-1718, “Standard Review Plan for the Review of an Application for a Mixed Oxide (MOX) Fuel Fabrication Facility,” as a MOX specific standard review plan (SRP). In addition to addressing facility specific hazards, draft NUREG-1718 provides the staff with review guidance for the application for construction approval and the license application. Additionally, the NRC is currently considering revisions to 10 CFR Part 70 and the associated SRP, draft NUREG-1520, “Standard Review Plan for the Review of a License Application for a Fuel Cycle Facility,” (see http://techconf.llnl.gov/cgi-bin/topics). To the extent appropriate, revisions to finalize draft NUREG-1718 will reflect NRC program changes to 10 CFR Part 70 and the accompanying SRP.

For the Nuclear Regulatory Commission.

Dated at Rockville, Maryland, this 12th day of January, 2000.
Michael F. Weber,
Director, Division of Fuel Cycle Safety and Safeguards, NMSS.

[FR Doc. 00-2057 Filed 1-31-00; 8:45 am]

BILLING CODE 7590-01-P